SMALL BUSINESS ADMINISTRATION

[Declaration of Disaster #3587]

State of West Virginia

As a result of the President's major disaster declaration on June 7, 2004 I find that Boone, Braxton, Cabell, Calhoun, Clay, Fayette, Gilmer, Jackson, Kanawha, Lewis, Lincoln, Logan, Mason, McDowell, Mercer, Mingo, Nicholas, Putnam, Raleigh, Roane, Wayne, Webster, Wirt, and Wyoming Counties in the State of West Virginia constitute a disaster area due to damages caused by severe storms, flooding, and landslides that occurred on May 27, 2004 and continuing. Applications for loans for physical damage as a result of this disaster may be filed until the close of business on August 6, 2004, and for loans for economic injury until the close of business on March 7, 2005 at the address listed below or other locally announced locations: U.S. Small Business Administration, Disaster Area 1 Office, 360 Rainbow Blvd., South, 3rd Floor, Niagara Falls, NY 14303.

In addition, applications for economic injury loans from small businesses located in the following contiguous counties may be filed until the specified date at the above location: Doddridge, Greenbrier, Harrison, Monroe, Pocahontas, Randolph, Ritchie, Summers, Upshur, and Wood Counties in the State of West Virginia; Boyd, Lawrence, Martin and Pike Counties in the Commonwealth of Kentucky; Gallia, Lawrence, and Meigs Counties in the State of Ohio; and Bland, Buchanan, Giles, and Tazewell Counties in the Commonwealth of Virginia.

The interest rates are:

| Percent
For Physical Damage:
Homeowners with credit available elsewhere | 5.750
Homeowners without credit available elsewhere | 2.875
Businesses with credit available elsewhere | 5.500
Businesses and non-profit organizations without credit available elsewhere | 2.750
Others (including non-profit organizations) with credit available elsewhere | 4.875
For Economic Injury: Businesses and small agricultural cooperatives without credit available elsewhere | 2.750

The number assigned to this disaster for physical damage is 358706. For economic injury the number is 9ZH400 for West Virginia, 9ZH500 for Kentucky, 9ZH600 for Ohio, and 9ZH700 for Virginia.

(Catalog of Federal Domestic Assistance Program Nos. 59002 and 59008)
Dated: June 8, 2004.
Herbert L. Mitchell,
Associate Administrator for Disaster Assistance.

[FR Doc. 04-13425 Filed 6-14-04; 8:45 am]

BILLING CODE 8025-01-P